DEPARTMENT OF ENERGY

Federal Energy Regulatory Commission

Combined Notice of Filings #1

Take notice that the Commission received the following exempt wholesale generator filings:

Docket Numbers: EG23-278-000.

Applicants: Bernard Creek Solar LLC.

Description: Bernard Creek Solar LLC submits Notice of Self-Certification of Exempt Wholesale Generator Status.

Filed Date: 9/8/23.

Accession Number: 20230908-5164.

Comment Date: 5 p.m. ET 9/29/23.

Docket Numbers: EG23-279-000.

Applicants: Borden County Battery Energy Storage System LLC.

Description: Borden County Battery Energy Storage System LLC submits Notice of Self-Certification of Exempt Wholesale Generator Status.

Filed Date: 9/11/23.

Accession Number: 20230911-5107.

Comment Date: 5 p.m. ET 10/2/23.

Docket Numbers: EG23-280-000.

Applicants: Cald BESS LLC.

Description: Cald BESS LLC submits Notice of Self-Certification of Exempt Wholesale Generator Status.

Filed Date: 9/11/23.

Accession Number: 20230911-5109.

Comment Date: 5 p.m. ET 10/2/23.

Take notice that the Commission received the following electric rate filings:

Docket Numbers: ER23-1361-003.

Applicants: Southwest Power Pool, Inc.

Description: Compliance filing: Errata Compliance Filing in with August 3 Order in ER23-1361 to be effective 5/15/2023.

Filed Date: 9/11/23.

Accession Number: 20230911-5087.

Comment Date: 5 p.m. ET 10/2/23.

Docket Numbers: ER23-2797-000.

Applicants: Duke Energy Florida, LLC.

Description: Tariff Amendment: DEF-Orlando CoGen—Notice of Cancellation RS No. 146 to be effective 12/31/2023.

Filed Date: 9/8/23.

Accession Number: 20230908-5154.

Comment Date: 5 p.m. ET 9/29/23.

Docket Numbers: ER23-2798-000.

Applicants: PJM Interconnection, L.L.C.

Description: § 205(d) Rate Filing: Amendment to ISA, SA No. 4303; Queue No. AC2-092 (amend) to be effective 11/11/2023.

Filed Date: 9/11/23.

Accession Number: 20230911-5011.

Comment Date: 5 p.m. ET 10/2/23.

Docket Numbers: ER23-2799-000.

Applicants: PJM Interconnection, L.L.C.

Description: § 205(d) Rate Filing: Original ISA, Service Agreement No. 7063; Queue No. AE2-236 to be effective 8/10/2023.

Filed Date: 9/11/23.

Accession Number: 20230911-5012.

Comment Date: 5 p.m. ET 10/2/23.

Docket Numbers: ER23-2800-000.

Applicants: PJM Interconnection, L.L.C.

Description: § 205(d) Rate Filing: Amendment to ISA, SA No. 6704; Queue No. AF1-093 (amend) to be effective 11/11/2023.

Filed Date: 9/11/23.

Accession Number: 20230911-5017.

Comment Date: 5 p.m. ET 10/2/23.

Docket Numbers: ER23-2801-000.

Applicants: PJM Interconnection, L.L.C.

Description: § 205(d) Rate Filing: Amendment to ISA, Service Agreement No. 5071; Queue No. AB1-132 to be effective 11/11/2023.

Filed Date: 9/11/23.

Accession Number: 20230911-5031.

Comment Date: 5 p.m. ET 10/2/23.

Docket Numbers: ER23-2802-000.

Applicants: Oxbow Solar Farm 1, LLC.

Description: Baseline eTariff Filing: Petition for Blanket MBR Authorization with Waivers & Expedited Treatment to be effective 9/15/2023.

Filed Date: 9/11/23.

Accession Number: 20230911-5038.

Comment Date: 5 p.m. ET 10/2/23.

Docket Numbers: ER23-2803-000.

Applicants: PJM Interconnection, L.L.C.

Description: § 205(d) Rate Filing: Amendment to ISA, Service Agreement No. 6369; Queue No. AE2-029 to be effective 11/13/2023.

Filed Date: 9/11/23.

Accession Number: 20230911-5041.

Comment Date: 5 p.m. ET 10/2/23.

Docket Numbers: ER23-2804-000.

Applicants: ISO New England Inc., New England Power Company.

Description: § 205(d) Rate Filing: ISO New England Inc. submits tariff filing per 35.13(a)(2)(iii: ISO-NE/NEP; Filing of Service Agreement No. TSA-NEP-114 to be effective 10/1/2022.

Filed Date: 9/11/23.

Accession Number: 20230911-5042.

Comment Date: 5 p.m. ET 10/2/23.

Docket Numbers: ER23-2805-000.

Applicants: Nevada Power Company.

Description: § 205(d) Rate Filing: Service Agreement No. 20-00034 NPC/SPPC Amended Non-Conforming SA #20-00034 to be effective 11/10/2023.

Filed Date: 9/11/23.

Accession Number: 20230911-5062.

Comment Date: 5 p.m. ET 10/2/23.

Docket Numbers: ER23-2806-000.

Applicants: PJM Interconnection, L.L.C.

Description: § 205(d) Rate Filing: Amendment to ISA, Service Agreement No. 6911; Queue No. AE2-316 to be effective 11/13/2023.

Filed Date: 9/11/23.

Accession Number: 20230911-5063.

Comment Date: 5 p.m. ET 10/2/23.

Docket Numbers: ER23-2807-000.

Applicants: Pacific Gas & Electric Company.

Description: Notice of Termination of Service Agreement No. 48 under Pacific Gas and Electric Company's FERC Electric Tariff Volume No. 5.

Filed Date: 9/7/23.

Accession Number: 20230907-5161.

Comment Date: 5 p.m. ET 9/28/23.

Docket Numbers: ER23-2808-000.

Applicants: Pacific Gas and Electric Company.

Description: Notice of Termination of Service Agreement No. 50 under Pacific Gas and Electric Company's FERC Electric Tariff Volume No. 5.

Filed Date: 9/7/23.

Accession Number: 20230907-5162.

Comment Date: 5 p.m. ET 9/28/23.

Docket Numbers: ER23-2809-000.

Applicants: The Dayton Power and Light Company, PJM Interconnection, L.L.C.

Description: § 205(d) Rate Filing: The Dayton Power and Light Company submits tariff filing per 35.13(a)(2)(iii: DP&L Depreciation Rate Revisions and Request for Waiver to be effective 1/1/2023.

Filed Date: 9/11/23.

Accession Number: 20230911-5088.

Comment Date: 5 p.m. ET 10/2/23.

Docket Numbers: ER23-2810-000.

Applicants: Midcontinent Independent System Operator, Inc.

Description: § 205(d) Rate Filing: 2023-09-11_SA 3388 ATXI-Ameren IL-Knox County Wind Farm 2nd Rev GIA (J844) to be effective 9/12/2023.

Filed Date: 9/11/23.

Accession Number: 20230911-5090.

Comment Date: 5 p.m. ET 10/2/23.

Docket Numbers: ER23-2811-000.

Applicants: Tri-State Generation and Transmission Association, Inc.

Description: § 205(d) Rate Filing: Amendment to Service Agreement FERC No. 911 to be effective 8/10/2023.

Filed Date: 9/11/23.

Accession Number: 20230911-5093.

Comment Date: 5 p.m. ET 10/2/23.

Docket Numbers: ER23-2812-000.

Applicants: PJM Interconnection, L.L.C.

Description: § 205(d) Rate Filing: Original ISA, SA No. 7065; Queue No. AE2-033 to be effective 8/11/2023.

Filed Date: 9/11/23.

Accession Number: 20230911-5097.

Comment Date: 5 p.m. ET 10/2/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date.

Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 11, 2023.
Debbie-Anne A. Reese,
Deputy Secretary.

[FR Doc. 2023-19995 Filed 9-14-23; 8:45 am]

BILLING CODE 6717-01-P